FEDERAL RETIREMENT THRIFT INVESTMENT BOARD

Member Meeting Agenda

77 K Street NE, 10th Floor, Washington, DC 20002, March 26, 2018, In Person, 8:30 a.m.

Open Session

1. Approval of the minutes for the February 26, 2018 Board Meeting

2. Monthly Reports

a) Participant Activity

b) Investment Performance

c) Legislative

3. Vendor Financials

4. Office of External Affairs Annual Report

5. Office of Investments Annual Report

6. FEVS Update

7. IT Update

8. Blended Retirement Update

Closed Session

Information covered under 5 U.S.C. 552b (c)(4) and (c)(9)(B).

CONTACT PERSON FOR MORE INFORMATION: Kimberly Weaver, Director, Office of External Affairs, (202) 942-1640.

Dated: March 15, 2018.
Dharmesh Vashee,
Deputy General Counsel, Federal Retirement Thrift Investment Board.

[FR Doc. 2018-05632 Filed 3-20-18; 8:45 am]

BILLING CODE P